CONSUMER PRODUCT SAFETY COMMISSION

Submission for OMB Review; Comment Request—Safety Standard for Cigarette Lighters

AGENCY: Consumer Product Safety Commission.

ACTION: Notice.

SUMMARY: Pursuant to the Paperwork Reduction Act of 1995 (44 U.S.C. Chapter 35), the Consumer Product Safety Commission (Commission) announces that it has submitted to the Office of Management and Budget (OMB) a request for extension of approval of a collection of information associated with the Commission's safety standard for cigarette lighters.

DATES: Written comments on this request for extension of approval of information collection requirements should be submitted by October 21, 2009.

ADDRESSES: Written comments on this request for extension of approval of information collection requirements should be captioned “Cigarette Lighters” and submitted by October 21, 2009 to (1) the Office of Information and Regulatory Affairs, Attn: OMB Desk Officer for CPSC, Office of Management and Budget, Washington, DC 20503; telephone: (202) 395-7340, and (2) the Office of the Secretary, by e-mail at cpsc-os@cpsc.gov or sent to the Office of the Secretary, Consumer Product Safety Commission, 4330 East West Highway, Bethesda, MD 20814. Written comments may also be sent by facsimile at (301) 504-0127.

FOR FURTHER INFORMATION CONTACT: Copies of this request for extension of the information collection requirements and supporting documentation are available from Linda Glatz, Division of Policy and Planning, Office of Information Technology and Technology Services, Consumer Product Safety Commission, 4330 East West Highway, Bethesda, MD 20814; telephone: (301) 504-7671 or by e-mail to lglatz@cpsc.gov.

SUPPLEMENTARY INFORMATION: In the Federal Register of July 8, 2009 (74 FR 32573), the Consumer Product Safety Commission published a notice in accordance with provisions of the Paperwork Reduction Act of 1995 (44 U.S.C. Chapter 35) to announce the agency's intention to seek extension of approval of the collection of information in the Safety Standard for Cigarette Lighters (16 CFR Part 1210). One comment was received in response to the July 8, 2009 notice, stating that the continued testing and data collection should not be collected annually since it is unlikely that new lighters are manufactured differently than existing lighters.

The regulations at 16 CFR part 1210, subpart B, do not require annual testing or certification of each new lighter. The Safety Standard for Cigarette Lighters requires disposable and novelty lighters to be manufactured with a mechanism to resist operation by children younger than five years of age. Certification regulations implementing the standard require manufacturers and importers to submit to the Commission a description of each model of lighter, results of prototype qualification tests for compliance with the standard, and a physical specimen of the lighter before the introduction of each model of lighter in commerce. Moreover, the regulations at 16 CFR 1210.14, allows for testing purposes, the comparison of a new model to a previously tested model, as long as the differences between the two do not adversely affect the child-resistance feature or design of the lighter.

The Commission uses the records of testing and other information required by the certification regulations to determine that disposable and novelty lighters have been tested and certified for compliance with the standard by the manufacturer or importer. The Commission also uses this information to obtain corrective actions if disposable or novelty lighters fail to comply with the standard in a manner that creates a substantial risk of injury to the public.

Additional Information About the Request for Extension of Approval of a Collection of Information

Agency address: Consumer Product Safety Commission, 4330 East West Highway, Bethesda, MD 20814.

Title of information collection: Safety Standard for Cigarette Lighters, 16 CFR Part 1210.

Type of request: Extension of approval without change.

General description of respondents: Manufacturers and importers of disposable and novelty cigarette lighters.

Estimated number of respondents: 20 per year.

Estimated average number of hours for testing, recordkeeping, and reporting per respondent: 5,500 per year.

Estimated cost of collection for all respondents: $200,000 to $501,000 per year.

Dated: September 16, 2009.
Todd A. Stevenson,
Secretary, Consumer Product Safety Commission.

[FR Doc. E9-22664 Filed 9-18-09; 8:45 am]

BILLING CODE 6355-01-P